DEPARTMENT OF COMMERCE

Patent and Trademark Office

Agency Information Collection Activities; Submission to the Office of Management and Budget (OMB) for Review and Approval; Comment Request; Patents External Quality Survey

AGENCY: United States Patent and Trademark Office, Department of Commerce.

ACTION: Notice of information collection; request for comment.

SUMMARY: The United States Patent and Trademark Office (USPTO), as required by the Paperwork Reduction Act of 1995, invites comments on the extension and revision of an existing information collection: 0651-0057 (Patents External Quality Survey). The purpose of this notice is to allow 60 days for public comment preceding submission of the information collection to OMB.

DATES: Written comments must be submitted on or before May 16, 2022.

ADDRESSES: Interested persons are invited to submit written comments by any of the following methods. Do not submit Confidential Business Information or otherwise sensitive or protected information:

• Email: InformationCollection@uspto.gov. Include `0651-0057 comment' in the subject line of the message.

• Federal Rulemaking Portal: http://www.regulations.gov.

• Mail: Kimberly Hardy, Office of the Chief Administrative Officer, United States Patent and Trademark Office, P.O. Box 1450, Alexandria, VA 22313-1450.

FOR FURTHER INFORMATION CONTACT: Requests for additional information should be directed to David Fitzpatrick, Management Analyst, Office of Patent Quality Assurance, United States Patent and Trademark Office, P.O. Box 1450, Alexandria, VA 22313-1450; by telephone at 571-272-0525; or by email at David.Fitzpatrick@uspto.gov, with “0651-0057 comment” in the subject line. Additional information about this information collection is also available at http://www.reginfo.gov under “Information Collection Review.”

SUPPLEMENTARY INFORMATION:

I. Abstract

This United States Patent and Trademark Office (USPTO) Quality Survey is an instrument designed to measure opinions about the services that USPTO provides its patent application customers. The results from this voluntary survey will assist USPTO in guiding improvements and enhancements in the future. The USPTO conducts the Patents External Quality Survey as part of its quality improvement efforts under E.O. 14058, Transforming Federal Customer Experience and Service Delivery to Rebuild Trust in Government (Dec. 13, 2021). This survey narrows the focus of customer satisfaction to examination quality and uses a longitudinal, rotating panel design to assess changes in customer perceptions and to identify key areas for examiner training and opportunities for improvement. The USPTO surveys patent agents, attorneys, and other individuals from large domestic corporations (including those with 500+ employees), small and medium-size businesses, independent inventors, and universities and other non-profit research organizations. This survey does not include foreign entities.

The USPTO random sample used in this survey is drawn from the Patent Application and Location Management (PALM) database. The sample population is drawn from the top filing firms and entities that have filed more than 5 patent applications in a 12-month period. This ongoing survey is generally conducted twice a year. USPTO uses a rotating panel design where participants will take the survey twice in back-to-back survey periods. Half the participants in each survey period are new, completing the survey for the first time, and half are returning to complete the survey for a second time. This design allows a precise measurement of changes in customer experience over time.

The Patents External Quality Survey is primarily a web-based survey, although respondents can also complete the survey via paper and mail if they prefer. The content of both versions is identical. Potential respondents are sent either an email or mailed pre-survey letter, depending on noted preferences for contact. At the beginning of each survey period, respondents are provided instructions for accessing and completing the survey electronically. After a specified response period, a survey packet containing the questionnaire, a separate cover letter prepared by the Deputy Commissioner for Patents, and a postage-paid, pre-addressed return envelope are mailed to all sample members that have not yet submitted a response. Sampled members receiving a paper survey can still complete the survey electronically if they prefer. Reminder/thank you postcards and telephone calls are used to encourage response from sample members.

Method of Collection

The survey may be submitted electronically or in paper form via postal mail.

II. Data

OMB Control Number: 0651-0057.

Form(s):

• PTO/2325 (Patents External Quality Survey).

Type of Review: Extension and revision of a currently approved information collection.

Affected Public: Private sector.

Respondent's Obligation: Voluntary.

Estimated Number of Annual Respondents: 1,875 respondents.

Estimated Number of Annual Responses: 3,100 responses.

Estimated Time per Response: The USPTO estimates that it will take the public between 2 minutes (0.03 hours) and 10 minutes (.17 hours) to complete a response in this information collection. This includes the time to gather the necessary information, answer the survey prompts, and submit the completed request to the USPTO.

Estimated Total Annual Respondent Burden Hours: 444 hours.

Estimated Total Annual Respondent Hourly Cost Burden: $193,140.

Table 1—Total Burden Hours and Hourly Costs to Private Sector Respondents
Item No. | Item | Estimated annual respondents | Responses per respondent | Estimated annual responses | Estimated time for response (hours) | Estimated burden (hour/year) | Rate ¹ | Estimated annual respondent cost burden
|  | (a) | (b) | (a) × (b) = (c) | (d) | (c) × (d) = (e) | (f) | (e) × (f) = (g)
1 | Patents External Quality Survey (One survey within a single year) | 1,250 | 1 | 1,250 | 0.17 (10 minutes) | 213 | $435 | $92,655
2 | Patents External Quality Survey (Two surveys within same year) | 625 | 2 | 1,250 | 0.17 (10 minutes) | 213 | 435 | 92,655
3 | Non-Response Follow-up Survey Card | Same respondents as item 1 and 2 | 1 | 600 | 0.03 (2 minutes) | 18 | 435 | 7,830
| Total | 1,875 |  | 3,100 |  | 444 |  | 193,140
¹ 2021 Report of the Economic Survey, published by the Committee on Economics of Legal Practice of the American Intellectual Property Law Association (AIPLA); pg F-27. The USPTO uses the average billing rate for intellectual property attorneys in private firms which is $435 per hour. (https://www.aipla.org/home/news-publications/economic-survey).

Estimated Total Annual Respondent Non-hourly Cost Burden: $0. There are no capital start-up, maintenance costs, recordkeeping costs, filing fees, or postage costs associated with this information collection. The USPTO covers the costs of all survey materials and provides postage-paid, pre-addressed return envelopes for the surveys that are returned by mail.

III. Request for Comments

The USPTO is soliciting public comments to:

(a) Evaluate whether the collection of information is necessary for the proper performance of the functions of the Agency, including whether the information will have practical utility;

(b) Evaluate the accuracy of the Agency's estimate of the burden of the collection of information, including the validity of the methodology and assumptions used;

(c) Enhance the quality, utility, and clarity of the information to be collected; and

(d) Minimize the burden of the collection of information on those who are to respond, including through the use of appropriate automated, electronic, mechanical, or other technological collection techniques or other forms of information technology, e.g., permitting electronic submission of responses.

All comments submitted in response to this notice are a matter of public record. USPTO will include or summarize each comment in the request to OMB to approve this information collection. Before including an address, phone number, email address, or other personally identifiable information (PII) in a comment, be aware that the entire comment—including PII—may be made publicly available at any time. While you may ask in your comment to withhold PII from public view, USPTO cannot guarantee that it will be able to do so.

Kimberly Hardy,
Information Collections Officer, Office of the Chief Administrative Officer, United States Patent and Trademark Office.

[FR Doc. 2022-05472 Filed 3-14-22; 8:45 am]

BILLING CODE 3510-16-P